DEPARTMENT OF THE TREASURY

Office of Thrift Supervision

[AC-57: OTS Nos. H-4750, H-4082, and 17978]

SI Financial Group, Inc., Willimantic, CT; Approval of Conversion Application

Notice is hereby given that on November 10, 2010, the Office of Thrift Supervision approved the application of SI Bancorp, MHC, Willimantic, Connecticut, the federal mutual holding company for the Savings Institute Bank and Trust Company, Willimantic, Connecticut, to convert to the stock form of organization. Copies of the application are available for inspection by appointment (phone number: 202-906-5922 or e-mail Public.Info@OTS.Treas.gov) at the Public Reading Room, 1700 G Street, NW., Washington, DC 20552, and the OTS Northeast Regional Office, Harborside Financial Center Plaza Five, Suite 1600, Jersey City, New Jersey 07311.

Dated: November 24, 2010.
By the Office of Thrift Supervision.
Sandra E. Evans,
Federal Register Liaison.

[FR Doc. 2010-30200 Filed 12-2-10; 8:45 am]

BILLING CODE 6720-01-M